DEPARTMENT OF TRANSPORTATION

Federal Aviation Administration

[Summary Notice No. 2014-147]

Petition for Exemption; Summary of Petition Received; Sterling Aviation

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before February 9, 2015.

ADDRESSES: Send comments identified by docket number FAA-2014-0948 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Keira Jones (202) 267-4024, Office of Rulemaking, Federal Aviation Administration, 800 Independence Avenue SW., Washington, DC 20591.

This notice is published pursuant to 14 CFR 11.85.

Issued in Washington, DC, on January 14, 2015.
Lirio Liu,
Director, Office of Rulemaking.

Petition for Exemption

Docket No.: FAA-2014-0948.

Petitioner: Sterling Aviation, LLC.

Section(s) of 14 CFR Affected: Part 120, Subparts E and F.

Description of Relief Sought: Landmark Aviation Inc. is seeking relief from the regulatory requirements under 14 CFR part 120 to maintain and administer separate drug and alcohol testing programs for five of its part 135 operations. Specifically, Sterling Aviation (the petitioner) requests relief from the requirement to conduct pre-employment testing, random testing accounting, education and training for safety-sensitive employees that are currently included in the FAA-mandated drug and alcohol testing programs for Sterling Aviation; Piedmont Hawthorne Aviation LLC; Galvin Flying Service, Inc; Midlantic Jet Charters Inc.; and Daedalus Inc. Sterling Aviation anticipates the issuance of a single operating certificate for the merger of the above listed part 135 certificate operations and requests to operate the drug and alcohol testing programs in unison prior to the single operating certificate issuance.

[FR Doc. 2015-00750 Filed 1-16-15; 8:45 am]

BILLING CODE 4910-13-P